DEPARTMENT OF ENERGY

Federal Energy Regulatory Commission

[Docket No. EL05-33-000, et al.]

City of Anaheim, CA, et al.; Electric Rate and Corporate Filings

December 6, 2004.

The following filings have been made with the Commission. The filings are listed in ascending order within each docket classification.

1. City of Anaheim, California

[Docket No. EL05-33-000]

Take notice that on December 1, 2004, the City of Anaheim, California (Anaheim) submitted for filing changes to its transmission revenue balancing account adjustment (TRBAA) and to Appendix I of its transmission owner (TO) tariff. Anaheim requests a January 1, 2005 effective date for its filing. Anaheim further requests that the Commission waive any fees for the filing of its revised TRBAA.

Comment Date: 5 p.m. Eastern Time on December 22, 2004.

2. Xcel Energy Services Inc.

[Docket No. ER04-59-001]

Take notice that, on December 1, 2004, Xcel Energy Services Inc. submitted a compliance filing pursuant to a letter order issued on December 9, 2003, conditionally accepting an interconnection agreement between Public Service Company of Colorado and Colorado Green Holdings, LLC, in Docket No. ER04-59-000.

Xcel Energy Services Inc. states that copies of the filing were served on parties on the official service list in the above-captioned proceeding.

Comment Date: 5 p.m. Eastern Time on December 22, 2004.

3. New York Independent System Operator, Inc.

[Docket No. ER04-294-003]

Take notice that on December 1, 2004, the New York Independent System Operator, Inc. (NYISO) submitted a report regarding the mandatory resale of transmission congestion contracts (TCCs) for existing transmission capacity for native load (ETCNL) and residual capacity reservation rights (RCRR ).

Comment Date: 5 p.m. Eastern Time on December 22, 2004.

4. Southwest Power Pool, Inc.

[Docket No. ER04-1096-002]

Take notice that on December 1, 2004, Southwest Power Pool, Inc. (SPP) submitted for filing an executed Joint Operating Agreement with the Midwest Independent Transmission System Operator, Inc. (Midwest ISO), including a draft Congestion Management Plan, intended to comply with the Commission's October 1, 2004 “Order on Proposed Joint Operating Agreement.” SPP states that this compliance filing reflects minimal changes to the draft Joint Operating Agreement previously submitted by the Midwest ISO in this proceeding. SPP requests an effective date of December 1, 2004.

SPP states that it has served a copy of its transmittal letter on each of its Members and Customers. SPP also states that a complete copy of this filing will be posted on the SPP Web site http://www.spp.org, and is also being served on all affected state commissions and all persons identified on the service list in this proceeding.

Comment Date: 5 p.m. Eastern Time on December 22, 2004.

5. Midwest Independent Transmission System Operator, Inc.

[Docket No. ER04-1165-002]

Take notice that, on December 1, 2004, the Midwest Independent Transmission System Operator, Inc. (Midwest ISO) submitted a compliance filing pursuant to the Commission's November 1, 2004 Order, Midwest Independent Transmission System Operator, Inc., 109 FERC ¶ 61,129 (2004). Midwest ISO states that the purpose of this filing is to revise the Midwest ISO's OATT to amend and clarify the application of section 2.2 (Reservation Priority for Existing Firm Service Customers) in compliance with the Commission's directives in the November 1 Order.

The Midwest ISO states that it has also requested waiver of the service requirements set forth in 18 CFR 385.2010. The Midwest ISO also states that it has electronically served a copy of this filing, with attachments, upon all Midwest ISO Members, Member representatives of Transmission Owners and Non-Transmission Owners, the Midwest ISO Advisory Committee participants, as well as all state commissions within the region. In addition, the Midwest ISO further states that the filing has been electronically posted on the Midwest ISO's Web site at www.midwestiso.org under the heading “Filings to FERC” for other interested parties in this matter. The Midwest ISO will provide hard copies to any interested parties upon request.

Comment Date: 5 p.m. Eastern Time on December 22, 2004.

6. KPIC North America Corporation

[Docket No. ER05-268-000]

Take notice that on November 30, 2004, KPIC North America Corporation (KPIC) submitted for filing a Notice of Cancellation of a rate schedule FERC No. 1 KPIC requests an effective date of November 17, 2004.

Comment Date: 5 p.m. Eastern Time on December 21, 2004.

7. PacifiCorp

[Docket No. ER05-269-000]

Take notice that on November 30, 2004, PacifiCorp tendered for filing in accordance with 18 CFR 35 of the Commission's Rules and Regulations a Notice of Cancellation of a May 24, 1967 agreement providing each party with 50 megawatts of non-firm transmission service on the transmission system of the other party (PacifiCorp's Rate Schedule FERC No. 77).

PacifiCorp states that copies of this filing were supplied to the Public Utility Commission of Oregon, the Washington Utilities and Transportation Commission, and NorthWestern Energy (on behalf of Montana Power Co.).

Comment Date: 5 p.m. Eastern Time on December 21, 2004.

8. Virginia Electric and Power Company

[Docket No. ER05-272-000]

Take notice that on November 30, 2004, Virginia Electric and Power Company, doing business as Dominion Virginia Power (the Company), filed copies of a service agreement with Old Dominion Electric Cooperative providing for the sale of supplement energy under the Company's cost-based power sales tariff, Original Volume No. 7. The Company requests an effective date of November 1, 2004.

Comment Date: 5 p.m. Eastern Time on December 21, 2004.

9. Midwest Independent Transmission System Operator, Inc.

[Docket No. ER05-273-000]

Take notice that on November 30, 2004, the Midwest Independent Transmission System Operator, Inc. (Midwest ISO) submitted revisions to section 22 of their Open Access Transmission Tariff to clarify the charges associated with a Transmission Customer's decision to redirect its Firm Point-To-Point Transmission Service reservations to Non-Firm Point-To-Point Transmission Service. The Midwest ISO requests an effective date of December 1, 2004.

The Midwest ISO has also requested waiver of the service requirements set forth in 18 CFR 385.2010. The Midwest ISO states that it has electronically served a copy of this filing, with its attachments, upon all Midwest ISO Members, Member representatives of Transmission Owners and Non-Transmission Owners, the Midwest ISO Advisory Committee participants, Policy Subcommittee participants, as well as all state commission within the region. In addition, the filing has been electronically posted on the Midwest ISO's Web site at www.midwestiso.org under the heading “Filings to FERC” for other interested parties in this matter. The Midwest ISO further states that it will provide hard copies to any interested party upon request.

Comment Date: 5 p.m. Eastern Time on December 21, 2004.

10. PacifiCorp

[Docket No. ER05-274-000]

Take notice that on November 30, 2004, PacifiCorp filed of the Commission's Rules and Regulations a Notice of Cancellation of the August 19, 1950 agreement between PacifiCorp and the Coos-Curry Electric Cooperative, Inc. providing for an emergency interconnection between the parties' transmission systems (PacifiCorp's Rate Schedule FERC No. 51).

PacifiCorp states that copies of this filing were supplied to the Public Utility Commission of Oregon, the Washington Utilities and Transportation Commission, and Coos-Curry Electric Cooperative, Inc.

Comment Date: 5 p.m. Eastern Time on December 21, 2004.

11. PacifiCorp

[Docket No. ER05-275-000]

Take notice that on November 30, 2004, PacifiCorp tendered for filing a Notice of Cancellation of its certificate of concurrence to an Idaho Power Company non-firm transmission agreement (PacifiCorp's Rate Schedule FERC No. 367).

PacifiCorp states that copies of this filing were supplied to the Public Utility Commission of Oregon, the Washington Utilities and Transportation Commission, and Idaho Power Co.

Comment Date: 5 p.m. Eastern Time on December 21, 2004.

12. PacifiCorp

[Docket No. ER05-276-000]

Take notice that on November 30, 2004, PacifiCorp tendered for filing in accordance with 18 CFR 35 of the Commission's Rules and Regulations a Notice of Cancellation of the August 27, 1956 agreement between PacifiCorp and the Western Area Power Administration providing for low voltage transmission service to Hanover and Bluff Substations (PacifiCorp's Rate Schedule FERC No. 72).

PacifiCorp states that copies of this filing were supplied to the Public Utility Commission of Oregon, the Washington Utilities and Transportation Commission, and Western Area Power Administration.

Comment Date: 5 p.m. Eastern Time on December 21, 2004.

13. California Independent System Operator Corporation

[Docket No. ER05-277-000]

Take notice that, on November 30, 2004, the California Independent System Operator Corporation (ISO) tendered for filing a revision to the ISO Tariff, Amendment No. 64, for acceptance by the Commission. The ISO states that the purpose of Amendment No. 64 is to indefinitely suspend the effective date of uninstructed deviation penalties. The ISO further states that a separate revision to the ISO Tariff will be subsequently filed seeking a specific effective date for the tariff language governing Uninstructed Deviation Penalties. The ISO requests an effective date of December 1, 2004.

The ISO states that this filing has been served on the Public Utilities Commission, the California Energy Commission, the California Electricity Oversight Board, parties in Docket Nos. ER03-1046, ER04-609, and ER04-1087, and parties with effective Scheduling Coordinator Agreements under the ISO Tariff.

Comment Date: 5 p.m. Eastern Time on December 21, 2004.

14. PacifiCorp

[Docket No. ER05-278-000]

Take notice that on November 30, 2004, PacifiCorp tendered for filing a Notice of Cancellation of the September 1, 1981 agreement between PacifiCorp and the Montana Power Company providing for non-firm transmission service on each party's transmission system (PacifiCorp's Rate Schedule FERC No. 214).

PacifiCorp states that copies of this filing were supplied to the Public Utility Commission of Oregon, the Washington Utilities and Transportation Commission, and NorthWestern Energy (on behalf of Montana Power Co.).

Comment Date: 5 p.m. Eastern Time on December 21, 2004.

15. New England Power Pool

[Docket No. ER05-279-000]

Take notice that on December 1, 2004, the New England Power Pool (NEPOOL) Participants Committee filed for acceptance materials to permit NEPOOL to expand its membership to include Blackstone Hydro, Inc. (Blackstone); Boralex Stratton Energy Inc. (Boralex); Morin Brick Company, Inc. (Morin Brick); Morin Energy, LLC (Morin Energy); Telegraph Publishing Company (Telegraph); The Westerly Hospital (Westerly); and Westerly Hospital Energy Company, LLC (WHEC) (collectively, the Applicants). NEPOOL Participants Committee requests an effective date of December 1, 2004.

NEPOOL Participants Committee states that copies of these materials were sent to the New England state governors and regulatory commissions and the Participants in NEPOOL.

Comment Date: 5 p.m. Eastern Time on December 22, 2004.

16. Duke Energy Corporation

[Docket No. ER05-281-000]

Take notice that on December 1, 2004, Duke Energy Corporation, on behalf of Duke Electric Transmission, (collectively, Duke) submitted a revised Network Integration Service Agreement (NITSA) with North Carolina Electric Membership Corporation (NCEMC) which is designated as Fourth Revised Service Agreement No. 208 under Duke Electric Transmission FERC Electric Tariff Third Revised Volume No. 4.

Duke states that copies of the filing were served upon NCEMC and the South Carolina and North Carolina state public service commissions.

Comment Date: 5 p.m. Eastern Time on December 22, 2004.

17. Western Systems Power Pool, Inc.

[Docket No. ER05-284-000]

Take notice that on December 1, 2004, the Western Systems Power Pool, Inc. (WSPP) submitted changes to the WSPP Agreement intended to update and clarify the Agreement. WSPP states that the Executive Committee approved these changes. WSPP requests an effective date of February 1, 2005.

WSPP states that copies of the transmittal letter have been served on all state commissions (without attachments). The filing has been emailed to certain WSPP lists and is posted on the WSPP Home page (www.wspp.org) thereby providing notice to all WSPP members.

Comment Date: 5 p.m. Eastern Time on December 22, 2004.

18. CED Rock Springs, LLC

[Docket No. ER05-288-000]

Take notice that on December 2, 2004, CED Rock Springs, LLC (CED Rock Springs) submitted for filing a rate schedule under which it specifies its revenue requirement for providing cost-based reactive support and voltage control from generation sources service from the natural gas-fired generating facility located in Rising Sun, Maryland in the PJM control area administered by PJM Interconnection, L.L.C. Rock Springs requests an effective date of February 1, 2005.

Comment Date: 5 p.m. Eastern Time on December 22, 2004.

19. Ocean Peaking Power, LLC

[Docket No. ER05-289-000]

Take notice that on December 1, 2004, Ocean Peaking Power, LLC (OPP) submitted for filing a rate schedule under which it specifies its revenue requirement for providing cost-based reactive support and voltage control from generation sources service from the natural gas-fired generating facility located in Lakewood, New Jersey in the PJM control area administered by PJM Interconnection, L.L.C. OPP requests an effective date of February 1, 2005.

Comment Date: 5 p.m. Eastern Time on December 22, 2004.

20. Corbin A. McNeill, Jr.

[Docket No. ID-4187-000]

Take notice that on November 30, 2004, Corbin A. McNeill, Jr., submitted an application for authorization under section 305(b) of the Federal Power Act to hold an interlocking position as a director of North Western Corporation and Portland General Electric Company.

Comment Date: 5 p.m. Eastern Time on January 5, 2005.

21. Midwest Independent Transmission System Operator, Inc.

[Docket Nos. RT01-87-000, ER02-106-000, ER02-108-000]

Take notice that on November 30, 2004, the Midwest Independent Transmission System Operator, Inc. (Midwest ISO), the Midwest ISO Transmission Owners, and the Midwest Stand Alone Transmission Companies submitted a Settlement Agreement between transmission owners and Midwest ISO on filing rights (Settlement Agreement), along with an explanatory statement and changes to the Midwest ISO open access transmission tariff and to the agreement of transmission facilities owners to organize the Midwest Independent Transmission System Operator, Inc. that implements the Settlement Agreement.

The Midwest ISO requested waiver of the requirements of 18 CFR 385.2010. The Midwest ISO states that it has electronically served a copy of the above-referenced documents upon all Midwest ISO Members, Member representatives of Transmission Owners and Non-Transmission Owners, the Midwest ISO Advisory Committee participants, as well as all state commissions within the Region. In addition, this filing has been posted electronically on the Midwest ISO's Web site at www.midwestiso.org under the heading “Filings to FERC” for other interested parties in this matter. The Midwest ISO also states that paper copies are available upon request by contacting Lori A. Spence, counsel of record, at the Midwest ISO.

Comment Date: 5 p.m. Eastern Time on January 3, 2005.

22. Southwest Power Pool, Inc.

[Docket Nos. RT04-1-006 and ER04-48-006]

Take notice that on November 4, 2004 and November 8, 2004, Southwest Power Pool, Inc. (SPP) tendered for filing amendments to its November 1, 2004 compliance filing filed pursuant to Southwest Power Pool, Inc., 109 FERC ¶ 61,009 (2004). The amendments to the compliance filing consist of redlined pages and an affidavit of Carl A. Monroe.

Comment Date: 5 p.m. Eastern Time on December 16, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3632 Filed 12-13-04; 8:45 am]

BILLING CODE 6717-01-P